DEPARTMENT OF ENERGY

Agency Information Collection Extension

AGENCY: U.S. Department of Energy.

ACTION: Notice and request for comments.

SUMMARY: The Department of Energy (DOE), pursuant to the Paperwork Reduction Act of 1995), intends to extend for three years, an information collection request with the Office of Management and Budget (OMB).

DATES: Comments regarding this proposed information collection must be received on or before January 4, 2021. If you anticipate difficulty in submitting comments within that period, contact the person listed below as soon as possible.

ADDRESSES: Written comments may be sent to Ken Hunt, Chief Privacy Officer, U.S. Department of Energy, 19901 Germantown Road, Rm. G-302, Germantown, MD 20874, or by fax at (301) 903-7738 or by email at privacyactoffice@hq.doe.gov.

FOR FURTHER INFORMATION CONTACT: Ken Hunt, Chief Privacy Officer, U.S. Department of Energy, 19901 Germantown Road, Germantown, MD 20874 or by telephone at (301) 903-3880 or by fax at (301) 903-7738 or by email at privacyactoffice@hq.doe.gov, https://www.energy.gov/cio/office-chief-information-officer/services/guidance/privacy-program/submitting-privacy-act.

SUPPLEMENTARY INFORMATION: Comments are invited on: (a) Whether the extended collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains: (1) OMB No:. 1910-1700; (2) Information Collection Request Title: Privacy Act Administration; (3) Type of Review: extension; (4) Purpose: The Privacy Act Information Request form aids the Department of Energy's processing of Privacy Act requests submitted by an individual or an authorized representative, wherein he or she is requesting records the government may maintain on the individual. The Department's use of this form continues to contribute to the implementation of the Department's Privacy Act processes, including, but not limited to, providing for faster processing of Privacy Act information requests by asking individuals or their authorized representative for pertinent information needed for records retrieval; (5) Annual Estimated Number of Respondents: 406; (6) Annual Estimated Number of Total Responses: 406; (7) Annual Estimated Number of Burden Hours: 135; (8) Annual Estimated Reporting and Recordkeeping Cost Burden: $7,847.

Statutory Authority: The Privacy Act of 1974, 5 U.S.C. 552(a) and Department of Energy, Records Maintained on Individuals (Privacy Act), 10 CFR 1008.7.

Signing Authority: This document of the Department of Energy was signed on October 27, 2020, by Rocky Campione, Chief Information Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 29, 2020.
Treena V. Garrett,
Federal Register Liaison Officer, U.S. Department of Energy.

[FR Doc. 2020-24344 Filed 11-2-20; 8:45 am]

BILLING CODE 6450-01-P